DEPARTMENT OF COMMERCE

National Oceanic and Atmospheric Administration

Notice of Dates and Locations for Public Scoping Meetings on the Review of the Gerry E. Studds Stellwagen Bank National Marine Sanctuary Management Plan

AGENCY: National Marine Sanctuary Program (NMSP), National Ocean Service (NOS), National Oceanic and Atmospheric Administration, Department of Commerce (DOC).

SUMMARY: The Stellwagen Bank National Marine Sanctuary (SBNMS) was designated in 1992. Encompassing an 842-square mile area off the coast of Massachusetts, SBNMS protects one of the most biologically diverse areas along the eastern seaboard. It is one of the primary feeding grounds of the highly migratory humpback whale, the part-time home of the endangered northern right whale, and has a highly varied seafloor that supports a wide variety of demersal fish species and invertebrate species.

In accordance with Section 304(e) of the National Marine Sanctuaries Act, as amended, (NMSA) (16 U.S.C. 1431 et seq.), the NMSP has re-initiated a review of the SBNMS management plan to evaluate the substantive progress toward implementing the management plan and goals of the Sanctuary and to make revisions to the plan and regulations as necessary to fulfill the purposes and policies of the NMSA. NOAA is currently seeking comments on the scope, types, and significance of issues related to the Sanctuary management plan and regulations.

Background

The current management plan for the Sanctuary was originally published in July 1993. In December 1998 and January 1999, the NMSP initiated a review of this plan by holding scoping meetings to solicit public comments on the status of site management. Scoping participants commented on a variety of issues, which were then characterized by Sanctuary staff and drafted into a “State of the Sanctuary Report” during Winter 2001/2002 (a change in Sanctuary administration delayed the management plan review process for approximately one year).

The State of the Sanctuary Report, which also contains current background information on the Sanctuary's administrative capacities, its environmental features and human uses, and its going activities, has been released to familiarize the public with the current status of Sanctuary management and the range of issues identified during the initial scoping period of 1998/1999. The report can be obtained by contacting the SBNMS Management Plan Review Coordinator at the address below or by downloading it from the SBNMS website at http://stellwagen.nos.noaa.gov. Interested parties should refer to this report when submitting comments on the Sanctuary's management plan during this re-initiation of the scoping period.

Comments on the Sanctuary management plan or regulations may be submitted in three ways: (1) In writing to SBNMS Management Plan Review Coordinator at the address or fax number below; (2) via email to sbnmsplan@noaa.gov; or (3) in writing or orally at one of the public meetings.

The public meetings will begin on September 24, 2002. A complete list of dates and address for these meetings is an follows:

Meeting 1—6:30 p.m. Tuesday, September 24, 2002 at the Mystic Aquarium in Mystic, CT; htt://www.mysticaquarium. org.

Meeting 2—6:30 p.m. Wednesday, September 25, 2002 at the New Bedford Whaling Museum in New Bedford, MA (18 Johnny Cake Hill Rd); http://whalingmuseum.org.

Meeting 3—6:30 p.m. Thursday, September 26, 2002 at the Provincetown Town Hall Auditorium in Provincetown, MA (260 Commercial St.); http://www.provincetowngov.org.

Meeting 4—10 a.m. Saturday, September 28, 2002 at the Sea Education Association in Falmouth, MA (177 Woods Hole Rd.); http://www.sea.edu.

Meeting 5—6:30 p.m. Monday, September 30, 2002 at the Gloucester City Hall Council Chamber in Gloucester, MA (9 Dale Ave.); htt://www.ci.gloucester.ma.us.

Meeting 6—6:30 p.m. Tuesday, October 1, 2002 at the University of Maine School of Law in Portland, ME (246 Deering Ave.); http://www.law.usm.maine.edu/about-dir.htm.

Meeting 7—6:30 p.m. Wednesday, October 2, 2002 at Yokens Restaurant and Conference Center in Portsmouth, NH (Rte. 1, So. 1390 Lafayette Rd.); http://www.yokens.com.

Meeting 8—6:30 p.m. Thursday, October 3, 2002 at the New England Aquarium in Boston, MA (Central Wharf); http://www.neaq.org.

Meeting 9—11 a.m. Saturday, October 5, 2002 at the Plymouth Public Library in Plymouth, MA (132 South St.); http://www.gis.net/~ppl/.

DATES: The public meetings begin on September 24, 2002 and end on October 5, 2002; comments on the management planor regulations should be received on or before October 18, 2002.

ADDRESSES: Addresses for the upcoming public meetings are detailed in the Background section above. For a copy of the State of the Sanctuary Report, contact the Management Plan Review Coordinator, Stellwagen Bank National Marine Sanctuary, 175 Edward Foster Rd. Scituate, MA 02066. Copies can also be downloaded from the SBNMS website at http://stellwagen.nos.noaa.gov.

To submit comments, you may (1) mail them to the address above; (2) fax them to (781) 545-8036; (3) email them to sbnmsplan@noaa.gov; or (4) attend one of the upcoming public meetings. Comments should be addressed to the attention of the Management Plan Review Coordinator.

FOR FURTHER INFORMATION CONTACT: Katrina VanDine at (781) 545-8026 X203 or via e-mail at sbnmsplan@noaa.gov.

Dated: September 17, 2002.
Jamison S. Hawkins,
Deputy Assistant Administrator for Ocean Services and Coastal Zone Management.

[FR Doc. 02-23980 Filed 9-19-02; 8:45 am]

BILLING CODE 3510-08-M